DEPARTMENT OF THE INTERIOR

National Park Service

[NPS-PWR-PWRO-0927-8527; 2310-0057-422]

Draft Environmental Impact Statement for Protecting and Restoring Native Ecosystems by Managing Non-Native Ungulates, Hawaii Volcanoes National Park, Hawaii

AGENCY: National Park Service, Interior.

ACTION: Notice of Availability for Draft Environmental Impact Statement for Protecting and Restoring Native Ecosystems by Managing Non-Native Ungulates.

SUMMARY: The National Park Service (NPS) announces the availability of the Draft Environmental Impact Statement (Draft EIS) for Protecting and Restoring Native Ecosystems by Managing Non-Native Ungulates, Hawaii Volcanoes National Park, Hawaii. The park's current management plan for non-native ungulate control was developed nearly 40 years ago. The new plan will provide a park-wide framework to systematically guide non-native ungulate management activities over the next 15-20 years. The Draft EIS presents five alternatives for managing non-native ungulates in a manner that supports long-term ecosystem protection, supports natural ecosystem recovery and provides desirable conditions for active ecosystem restoration, and supports protection and preservation of cultural resources.

DATES: All comments must be postmarked or transmitted not later than 60 days following publication by the U.S. Environmental Protection Agency (EPA) of its notice of filing of the Draft EIS. Immediately upon confirmation of this date an announcement will be posted by the NPS on the Project Web site, along with times and locations of three public meetings (December 5 in Volcano, December 6 in Na'alehu, and December 8 in Kailua-Kona). This information will also be announced via press releases and direct mailings to the park's mailing list.

SUPPLEMENTARY INFORMATION: Because the ecosystems of the Hawaiian Islands evolved over millions of years in the absence of large mammalian herbivores, they are extremely vulnerable to the effects of non-native ungulates, which, in the park, include mouflon sheep (mouflon) (Ovis musimon), pigs (Sus scrofa), sheep (Ovis aries), goats (Capra hircus) and small numbers of feral cattle (Bos taurus). These animals cause loss of vegetation, wildlife habitat degradation, population decline for native Hawaiian species, including numerous threatened, endangered, and sensitive plants and wildlife, and deterioration of watersheds.

The loss of native species and damage to the ecological integrity of the area also detracts from the natural conditions that contribute to the wilderness character of the park (which currently contains 130,790 acres designated as Wilderness). Cultural resources at the park are also susceptible to impacts from non-native ungulates, including physical effects from trampling, digging, and rooting; alterations in the ecosystem of an area; and loss of native plant and animal communities important to the culture of native peoples.

The Draft EIS identifies and analyzes five alternatives—a no-action alternative (A) and four action alternatives (B, C, D, and E). Under Alternative A the NPS would continue current non-native ungulate management practices, which include lethal reduction, supported by qualified volunteers, and fencing (the current program is based on the 1974 resources management plan/EIS and subsequent amendments, and other management decisions).

Alternative B: the NPS would implement a comprehensive, systematic management plan that would use fencing and lethal techniques, and would continue the use of qualified volunteers. Alternative C: the NPS would implement a comprehensive, systematic management plan that includes fencing and maximizes efficiency by expanding lethal removal techniques, and discontinues the use of volunteers. Alternative D (agency-preferred): the NPS would implement a comprehensive, systematic management plan that includes fencing, maximizes flexibility, and continues the use of volunteers. Management tools would rely primarily on lethal techniques, but non-lethal techniques such as relocation could also be considered. Alternative E: the NPS would implement a comprehensive, systematic management plan that increases flexibility of management techniques similar to Alternative D, while limiting the use of volunteers.

Electronic copies of the Draft EIS will be available on-line for public review and comment at the Project Web site: http://www.parkplanning.nps.gov/havo_ecosystem_deis. In addition, printed copies of the Draft EIS will be available at local public libraries (locations noted on Web site). Persons who wish to comment on the Draft EIS may submit comments by any one of several methods: Electronic comments may be submitted via the internet at the Project Web site noted above. Written comments can be mailed to Park Superintendent, Hawaii Volcanoes National Park, P.O. Box 52, Hawaii National Park, HI 96718-0052. Comments can be submitted at one of the public meetings to be held during the 60-day comment period (information to be provided as noted above) or hand-delivered to the Park Superintendent c/o Kilauea Visitor Center, Hawaii Volcanoes National Park, Hawaii, 96718.

Before including your address, telephone number, electronic mail address, or other personal identifying information in your comment, you should be aware that your entire comment (including your personal identifying information) may be made publicly available at any time.

While you can ask us to withhold your personal identifying information from public review, we cannot guarantee that we will be able to do so. Also, bulk comments in any format (hard copy or electronic) submitted on behalf of others will not be accepted.

Decision Process: Following due consideration of all agency and public comment on the Draft EIS, a Final EIS will be prepared and availability similarly announced in the Federal Register. As a delegated EIS, the official responsible for the final decision on the non-native ungulates management plan is the Regional Director, Pacific West Region, National Park Service. Subsequently, the official responsible for implementation of the approved plan is the Superintendent, Hawaii Volcanoes National Park.

Dated: August 16, 2011.
Patricia L. Neubacher,
Acting Regional Director, Pacific West Region.

[FR Doc. 2011-30170 Filed 11-22-11; 8:45 am]

BILLING CODE 4310-KV-P